DEPARTMENT OF TRANSPORTATION

Federal Motor Carrier Safety Administration

[Docket No. FMCSA-2025-1117]

Qualifications of Drivers: Minimum Age for Drivers; American Trucking Associations; Application for Exemption

AGENCY: Federal Motor Carrier Safety Administration (FMCSA), Department of Transportation (DOT).

ACTION: Notice of application for exemption; request for comments.

SUMMARY: FMCSA requests public comment on the application of the American Trucking Associations (ATA) for a 5-year exemption to allow motor carriers that previously participated in the Agency's Safe Driver Apprenticeship Pilot (SDAP) program, which ended on November 7, 2025, to continue onboarding and training drivers under the age of 21.

DATES: Comments must be received on or before February 27, 2026.

ADDRESSES: You may submit comments identified by Docket Number FMCSA-2025-1117 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: 1200 New Jersey Avenue SE, West Building, Ground Floor, Washington, DC 20590-0001, between 9 a.m. and 5 p.m., Monday through Friday, except Federal holidays.

• Fax: (202) 493-2251.

Each submission must include the Agency name and the docket number (FMCSA-2025-1117) for this notice. Note that DOT posts all comments received without change to www.regulations.gov, including any personal information included in a comment. Please see the Privacy Act heading below.

Privacy Act: In accordance with 49 U.S.C. 31315(b), DOT solicits comments from the public to better inform its exemption process. DOT posts these comments, including any personal information the commenter provides, to www.regulations.gov, as described in the system of records notice DOT/ALL-14 FDMS (Federal Docket Management System (FDMS)), which can be reviewed at https://www.transportation.gov/individuals/privacy/privacy-act-system-records-notices. The comments are posted without edit and are searchable by the name of the submitter.

FOR FURTHER INFORMATION CONTACT: Mr. Richard Clemente, FMCSA Driver and Carrier Operations Division; Office of Carrier, Driver and Vehicle Safety Standards, (771) 216-2436; richard.clemente@dot.gov. If you have questions on viewing or submitting material to the docket, contact Dockets Operations at (202) 366-9826.

SUPPLEMENTARY INFORMATION:

I. Public Participation and Request for Comments

FMCSA encourages you to participate by submitting comments and related materials.

A. Submitting Comments

If you submit a comment, please include the docket number for this notice (FMCSA-2025-1117), indicate the specific section of this document to which the comment applies, and provide a reason for your suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2025-1117/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001, or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov, insert FMCSA-2025-1117 in the keyword box, select the document tab and choose the document to review. To view comments, click this notice, then click “Browse Comments.” If you do not have access to the internet, you may view the docket by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Request

Current Regulatory Requirements

Under 49 CFR 391.11(b)(1), “Except as provided in subpart G of this part, a person is qualified to drive a motor vehicle if he/she—(1) Is at least 21 years old.”

Under 49 U.S.C. 31315(c)(2)(A) and 49 CFR 381.505(b)(1), a pilot program is limited to a maximum of 3 years.

FMCSA announced its SDAP program on January 14, 2022 (87 FR 2477). FMCSA began data collection on apprentice drivers in November 2022. The SDAP program concluded on November 7, 2025.

Applicant's Request

ATA requests a five-year exemption from 49 CFR 391.11(b)(1) to allow motor carriers that had been approved to participate in FMCSA's SDAP program to continue onboarding and training 18- to 20-year-old apprentice drivers after the November 7, 2025 expiration of the SDAP program. ATA states that FMCSA's SDAP program quarterly reports demonstrate positive safety outcomes, including millions of miles driven by program participants without reportable crashes. ATA believes that continuing the regulatory relief under an exemption would create minimal administrative burdens for FMCSA or participating motor carriers.

ATA's request outlines the history of prior efforts to evaluate younger drivers for interstate CMV operations, including the Truckload Carriers Associations' petition for a younger-driver pilot program, which FMCSA denied in 2003 due to insufficient data, and the Under-21 Military Pilot Program established pursuant to § 5404 of the Fixing America's Surface Transportation Act.¹

¹ Public Law 114-94 (Dec. 4, 2015), 129 Stat. 1312, 49 U.S.C. 31315 note.

Applicant's Equivalent Level of Safety

ATA contends that the SDAP program has now generated safety data and demonstrated effective oversight, as FMCSA has exercised its authority to remove carriers or participants when necessary to ensure safety. ATA believes that because FMCSA did not end the pilot program early, the program met an equivalent level of safety to existing regulations. Although ATA's application for exemption states that FMCSA “has not acted to end the pilot program,” FMCSA clarifies that the SDAP program concluded on November 7, 2025, as required by statute.

A copy of ATA's application for exemption is available for review in the docket for this notice.

IV. Request for Comments

In accordance with 49 U.S.C. 31315(b), FMCSA requests public comment from all interested persons on ATA's application for a five-year exemption from 49 CFR 391.11(b)(1) to allow 18- to 20-year-old apprentice drivers to continue to be onboarded and trained by motor carriers that were approved to participate in the SDAP program, which ended on November 7, 2025. All comments received before the close of business on the comment closing date will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator of Policy.

[FR Doc. 2026-01679 Filed 1-27-26; 8:45 am]

BILLING CODE 4910-EX-P